DEPARTMENT OF ENERGY

Federal Energy Regulatory Commission

[Docket Nos. RM07-16-000; RM01-5-000; RM12-3-000]

Filing via the Internet; Electronic Tariff Filings; Revisions to Electric Quarterly Report Filing Process; Notice of Technical Conference

Take notice that on April 16, 2013, the staff of the Federal Energy Regulatory Commission (Commission) will hold a technical conference on changes to the company registration process applicable to filers of electronic tariffs (eTariff) and other filings, such as Electric Quarterly Reports (EQRs), requiring the use of a company registration account, as directed by the Commission in its February 7, 2013 order.¹ The conference will take place from 10:00 a.m. to 1:00 p.m. (EST), in a Commission Meeting Room at 888 First Street NE., Washington, DC 20426. The public may attend.

¹ Revisions to Company Registration and Establishing Technical Conference, 142 FERC ¶ 61,097 (2013). The Commission also has required the use of company registration for filers of Electric Quarterly Reports. Revisions to Electric Quarterly Report Filing Process, Order No. 770, 77 FR 71288 (Nov. 30, 2012), FERC Stats. & Regs. [Regulation Preambles] ¶ 31,338 (cross-referenced at 141 FERC ¶ 61,120) (Nov. 15, 2012).

The Company registration system applies only to certain specified filings that require the use of a company identification number and does not apply to, or change the procedures relating to, other filings made through the Commission's eFiling system. At the conference, Commission staff will demonstrate the new company registration system and address questions. As described in the February 7, 2013 order, the new system adopts a revised method of authenticating filings requiring the use of a company registration number. Under this system, the filer will maintain a list of eRegistered agents which it has authorized to submit filings on its behalf. Each agent will use its eRegistration account to log onto FERC Online, where the agent will choose the type of filing (e.g., eTariff), and then will be presented with a list of all the filing companies for which they are registered to make that type of filing.²

² In addition, filing companies also will be able to designate personnel as Company Registration account administrators who in addition to making filings themselves, will have additional rights to administer the company registration account settings and designate agents to make filings.

Teleconferencing and WebEx will be available. Off-site participants interested in attending via teleconference or viewing the demonstration through WebEx must register at https://www.ferc.gov/whats-new/registration/etariff-form-04-16-13.asp, and do so by close of business on April 9, 2013. WebEx and teleconferencing may not be available to those who do not register.

Commission staff will post meeting materials prior to the technical conference, and encourages participants to email questions in advance to Nicholas.Gladd@ferc.gov. When emailing questions, please include “Technical Conference” in the subject line. Information on the conference will be posted on the Calendar of Events on the Commission's Web site, http://www.ferc.gov, prior to the conference.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the technical conference, please contact: Nicholas Gladd, Federal Energy Regulatory Commission, 888 First Street NE., Washington, DC 20426, (202) 502-8836, Nicholas.Gladd@ferc.gov.

Dated: March 8, 2013.
Nathaniel J. Davis, Sr.,
Deputy Secretary.

[FR Doc. 2013-06513 Filed 3-20-13; 8:45 am]

BILLING CODE 6717-01-P